DEPARTMENT OF TRANSPORTATION

Office of the Secretary

Aviation Proceedings, Agreements Filed During the Week Ending December 14, 2001

The following Agreements were filed with the Department of Transportation under provisions of 49 U.S.C. sections 412 and 414. Answers may be filed within 21 days after the filing of the applications.

Docket Number: OST-2001-11132

Date Filed: December 10, 2001

Parties: Members of the International Air Transport Association

Subject: PTC3 0528 dated 11 December 2001

Mail Vote 185—Resolution 010q

TC3 Japan, Korea-South East Asia Special Passenger Amending Resolution from Korea (Rep. of) to Chinese Taipei

Intended effective date: 15 December 2001

Docket Number: OST-2001-11163

Date Filed: December 12, 2001

Parties: Members of the International Air Transport Association

Subject:

PTC3 0521 dated 11 December 2001

TC3 Areawide Expedited Resolution 015v r-1

PTC3 0522 dated 11 December 2001

TC3 Within South East Asia Expedited Resolutions r2-r4

PTC3 0523 dated 11 December 2001

TC3 Within South West Pacific Expedited Resolution 002yy r-5

PTC3 0524 dated 11 December 2001

TC3 between South East Asia and South West Pacific

Expedited Resolution 002tt r-6

PTC3 0525 dated 11 December 2001

TC3 between Japan, Korea and South Asian Subcontinent

Expedited Resolution 002xx r-7

PTC3 0526 dated 11 December 2001

TC3 between Japan, Korea and South East Asia ExpeditedResolution 002vv r-8

Intended effective date: 15 January 2002

Docket Number: OST-2001-11175

Date Filed: December 12, 2001

Parties: Members of the International Air Transport Association

Subject: PTC23 EUR-SASC 0083 dated 11 December 2001

TC23 Europe-South Asian Subcontinent Expedited Resolutions

Intended Effective Date: 1 February 2002

Andrea M. Jenkins,
Federal Register Liaison.

[FR Doc. 01-32237 Filed 12-31-01; 8:45 am]

BILLING CODE 4910-62-P